DEPARTMENT OF AGRICULTURE

Forest Service

Notice of Proposed New Fee Site; Federal Lands Recreation Enhancement Act, (Title VIII, Pub. L. 108-447)

AGENCY: Tahoe National Forest, USDA Forest Service.

ACTION: Notice of Proposed New Fee Site.

SUMMARY: The Tahoe National Forest is proposing to charge a new fee at one developed recreation site. Fees are assessed based on the level of amenities and services provided, cost of operation and maintenance, market assessment, and public comment. The fee listed is only proposed and final determination will be made upon further analysis and public comment. Funds from the fee would be used for the operation and maintenance of this recreation site.

Sardine Lookout will be made available for overnight rental. The rental fee is recommended at $45 per night. Lookout rentals offer a unique experience and are a widely popular offering on National Forests. The Tahoe National Forest currently operates one lookout for public rental, the Calpine Lookout on the Sierraville Ranger District. The Sardine Lookout is in the process of being restored to maintain the lookout's eligibility to the National Register of Historic Places. Fees would continue to help protect and maintain this lookout and the historic integrity of the facility.

DATES: New fees would begin after a six-month publication in the Federal Register or August 15, 2009, whichever is sooner. The Sardine Lookout rental will be listed with the National Recreation Reservation Service.

ADDRESSES: Tom Quinn, Forest Supervisor, Tahoe National Forest, 631 Coyote St., Nevada City, California 95959.

FOR FURTHER INFORMATION CONTACT: Michael Baldrica, Sierraville District Archeologist, (530) 994-3401, ext. 6651. Information about proposed fee changes can also be found on the Tahoe National Forest Web site: http://www.fs.fed.us/r5/tahoe.

SUPPLEMENTARY INFORMATION: The Federal Recreation Lands Enhancement Act (Title VII, Pub. L. 108-447) directed the Secretary of Agriculture to publish a six month advance notice in the Federal Register whenever new recreation fee areas are established. These new fees will be reviewed by a Recreation Resource Advisory Committee prior to a final decision and implementation.

Dated: February 9, 2009.
Tom Quinn,
Forest Supervisor.

[FR Doc. E9-6769 Filed 3-30-09; 8:45 am]

BILLING CODE 3410-11-M